DEPARTMENT OF HEALTH AND HUMAN SERVICES

National Institutes of Health

Center for Scientific Review; Amended Notice of Meeting

Notice is hereby given of a change in the meeting of the Microbial Physiology and Genetics Subcommittee 1, February 23, 2000, 8:30 a.m. to February 24, 2000, 6:00 p.m., One Washington Circle Hotel, Conference Center, One Washington Circle, Washington, DC, 20037 which was published in the Federal Register on February 9, 2000, 65 FR 6384.

The meeting will be held on February 24-25, 2000. The time and place remain the same. The meeting is closed to the public.

Dated: February 16, 2000.
LaVerne Y. Stringfield,
Director, Office of Federal Advisory Committee Policy.

[FR Doc. 00-4296 Filed 2-23-00; 8:45 am]

BILLING CODE 4140-01-M